DEPARTMENT OF THE TREASURY

Office of Foreign Assets Control

Notice of OFAC Sanctions Action

AGENCY: Office of Foreign Assets Control, Department of the Treasury.

ACTION: Notice

SUMMARY: The U.S. Department of the Treasury's Office of Foreign Assets Control (OFAC) is publishing the names of one or more persons whose property and interests in property have been unblocked and who have been removed from OFAC's Specially Designated Nationals and Blocked Persons List (SDN List).

DATES: This action was issued on October 17, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov/.

Notice of OFAC Action

On October 17, 2025, OFAC determined that the property and interests in property subject to U.S. jurisdiction of the following persons, designated pursuant to Executive Order 14033 of June 8, 2021 (“Blocking Property and Suspending Entry Into the United States of Certain Persons Contributing to the Destabilizing Situation in the Western Balkans” hereinafter “E.O. 14033”), and for those designated on or after January 8, 2025, pursuant to E.O. 14033, as amended by Executive Order 14140 (“Taking Additional Steps with Respect to the Situation in the Western Balkans”), are unblocked and they have been removed from the SDN List.

Individuals

(Authority: 31 CFR chapter V.)

Bradley T. Smith,
Director, Office of Foreign Assets Control.

[FR Doc. 2025-23593 Filed 12-19-25; 8:45 am]

BILLING CODE 4810-AL-P